LEGAL SERVICES CORPORATION

Development of Regulatory Agenda for 2005-2006

AGENCY: Legal Services Corporation.

ACTION: Development of regulatory agenda for 2005-2006 “ request for comments.

SUMMARY: As part of its ongoing efforts to improve the administration of regulatory programs and requirements, Legal Services Corporation is soliciting suggestions for the possible clarification, modification, revision or deletion of existing LSC regulations, looking toward the development of a regulatory agenda and priorities for the years 2005-2006.

DATES: Written comments must be received on or before June 20, 2005.

ADDRESSES: Written comments may be submitted by mail, fax or e-mail to Victor M. Fortuno at the addresses listed below.

FOR FURTHER INFORMATION CONTACT: Victor M. Fortuno, Vice President for General Counsel, Legal Services Corporation, 3333 K St., NW., Washington, DC, 20007; 202-295-1620 (phone); 202-337-6519 (fax); vfortuno@lsc.gov.

SUPPLEMENTARY INFORMATION: The Legal Services Corporation's (LSC) mission is to promote equal access to the system of justice and improve opportunities for low-income people throughout the United States by making grants for the provision of high-quality civil legal assistance to those who would be otherwise unable to afford legal counsel consistent with the requirements of Congress.

LSC is in the process of developing a regulatory agenda and setting regulatory priorities for the years 2005-2006. With this notice, LSC is soliciting public input for the consideration by the Board of Directors in pursuit of this task. Specifically, LSC seeks comment on which of LSC regulations are in need of amendment, and why. In particular, LSC requests commenters to identify and discuss:

• Regulations which may require clarification, modification or revision;

• Regulations which appropriately may be considered for deletion; and

• Areas or topics for which new regulations may be needed or desirable.

In addition, to the extent that comments provide suggestions on which rules LSC should seek to clarify, modify or revise, LSC seeks suggestions as to the priority order in which LSC should undertake such rulemaking proceedings.

Victor M. Fortuno,
Vice President and General Counsel.

[FR Doc. 05-10059 Filed 5-19-05; 8:45 am]

BILLING CODE 7050-01-P